DEPARTMENT OF COMMERCE

National Oceanic and Atmospheric Administration

[I.D. 090806A]

Fisheries of the Caribbean, Gulf of Mexico, and South Atlantic; Coastal Migratory Pelagics off the Southern Atlantic States

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Dr. William Patterson and Captain Ben Hartig. If granted, the EFP would authorize the applicants, with certain conditions, to collect limited numbers of undersized and out-of-season king mackerel in South Atlantic Federal waters off the coast of Florida. The purpose of the study is to estimate temporal and spatial variability between migratory king mackerel groups in the winter mixing zone off the southeast coast of Florida.

DATES: Comments must be received no later than 5 p.m., eastern standard time, on October 13, 2006.

ADDRESSES: Comments on the application may be sent via fax to 727-824-5308 or mailed to: Sarah DeVido, Southeast Regional Office, NMFS, 263 13th Avenue South, St. Petersburg, FL 33701. Comments may also be submitted by e-mail. The mailbox address for providing e-mail comments is Sarah.DeVido@noaa.gov. Include in the subject line of the e-mail document the following text: Comment on Patterson-Hartig EFP Application. The application and related documents are available for review upon written request to the address above or the e-mail address below.

FOR FURTHER INFORMATION CONTACT: Sarah DeVido, 727-824-5305; fax 727-824-5308; e-mail: Sarah.DeVido@noaa.gov.

SUPPLEMENTARY INFORMATION: The EFP is requested under the authority of the Magnuson-Stevens Fishery Conservation and Management Act (16 U.S.C. 1801 et seq.), and regulations at 50 CFR 600.745(b) concerning exempted fishing.

The described research is part of the cooperative research program (NMFS Cooperative Research Program Grant NA06NMF45400601). The Cooperative Research Program is a means of involving commercial and/or recreational fishermen in the collection of fundamental fisheries information. Resource collection efforts support the development and evaluation of fisheries management and regulatory options.

The proposed collection for scientific research involves activities otherwise prohibited by regulations implementing the Fishery Management Plan for the Coastal Migratory Pelagic Resources of the South Atlantic Region. The applicants require authorization to harvest and possess undersized and out-of-season king mackerel for scientific research activities during the period from October 1, 2006, through July 31, 2008. Specimens would be collected from Federal waters off the southeast coast of Florida by trolling artificial lures and rigged dead baits during the specified sampling period. Sampling would occur year round when migratory fish are present, collecting up to 500 fish per year. Biological samples would be extracted from the specimens. Data collections for this study will support estimations of growth and age (from otolith thin sections), analyses of reproductive biology (from gonadal thin sections), and population and mixing dynamics (from shape and chemical analyses of otoliths).

NMFS finds this application warrants further consideration. Based on a preliminary review, NMFS intends to issue an EFP. Possible conditions the agency may impose on this permit, if it is indeed granted, include but are not limited to: The use of only artificial lures and rigged dead baits during trolling sampling trips; and prohibition of conducting research within marine protected areas, marine sanctuaries, or special management zones, or over artificial reefs, without additional authorization. A final decision on issuance of the EFP will depend on a NMFS review of public comments received on the application, consultations with the affected states, the South Atlantic Fishery Management Council, and the U.S. Coast Guard, and a determination that it is consistent with all applicable laws.

Authority: 16 U.S.C. 1801 et seq.

Dated: September 8, 2006.
Alan D. Risenhoover,
Director, Office of Sustainable Fisheries, National Marine Fisheries Service.

[FR Doc. E6-15192 Filed 9-12-06; 8:45 am]

BILLING CODE 3510-22-S